FEDERAL COMMUNICATIONS COMMISSION

47 CFR Part 64

[CG Docket No. 10-51; FCC 11-54]

Structure and Practices of the Video Relay Service Program

AGENCY: Federal Communications Commission.

ACTION: Final rule; correction.

SUMMARY: The Federal Communications Commission (FCC) is correcting a final rule that appeared in the Federal Register of September 26, 2011. The document announces the effective date of rules containing information collection requirements approved by the Office of Management and Budget that were adopted by the FCC to prevent fraud, waste, and abuse in the Video Relay Service (VRS) industry.

DATES: Effective September 26, 2011.

FOR FURTHER INFORMATION CONTACT: Gregory Hlibok, Consumer and Governmental Affairs Bureau, Disability Rights Office, at (202) 559-5158, or email Gregory.Hlibok@fcc.gov.

SUPPLEMENTARY INFORMATION: This document makes the following corrections to the final rule published September 26, 2011, 76 FR 59269:

On page 59270, column 2, correct paragraph (c) to read as follows:

(c) Data Filed with the Fund Administrator to Support Payment Claims. TRS providers shall provide the following data associated with each TRS call for which a TRS provider seeks compensation in its filing with the Fund Administrator: (1) The call record ID sequence; (2) CA ID number; (3) session start and end times; (4) conversation start and end times; (5) incoming telephone number and IP address (if call originates with an IP-based device) at the time of call; (6) outbound telephone number and IP address (if call terminates with an IP-based device) at the time of call; (7) total conversation minutes; (8) total session minutes; (9) the call center (by assigned center ID number) that handles the call; and (10) the URL address through which the call was initiated.

Federal Communications Commission.
Marlene H. Dortch,
Secretary.

[FR Doc. 2012-7245 Filed 3-26-12; 8:45 am]

BILLING CODE 6712-01-P